NUCLEAR REGULATORY COMMISSION

Licensing Support Network; Advisory Review Panel

AGENCY: Nuclear Regulatory Commission.

ACTION: Notice of public meeting.

SUMMARY: The Licensing Support Network Advisory Review Panel (LSNARP) will hold its next meeting on Wednesday and Thursday, September 18-19, 2002, at the Alexis Park, located at 375 East Harmon, Las Vegas, Nevada 89109. The meeting will be open to the public pursuant to the Federal Advisory Committee Act (Pub. L. 94-463, 86 Stat. 770-776).

AGENDA: The meeting will be held from 8:30 a.m. to 5:00 p.m. on Wednesday, September 18 and from 8:30 to close of business on Thursday, September, 2001. The preliminary agenda is as follows:

Wednesday, September 18

8:30 am-8:45—LSNARP Chairman's Opening Remarks

8:45 am-9:30—LSN Administrator Progress Report on Status of LSN; Panel Discussion; Questions and Answers

9:30 am-10:00—LSN Project Manager Report on Status of Integration Efforts and Results of System Security Risk Assessment Performed by NSA

10 am-10:15—Break

10:15 am-10:45—Experience of Local Government in Setting Up Web site to make documents available To LSN (Lincoln County—Tentative)

10:45 am-11:15—Identification of participant training needs expectations for use of the LSN; training strategies and approaches; points of contact for coordination of training efforts; Discussion

11:15 am-12—Lessons Learned from Private Fuel Storage Hearings

12 pm-1:15—Lunch

1:15 pm-2—Revised Topical Guidelines 3.69

2 pm-2:45—Recapitulation of June 25-26 NRC/DOE Technical Meeting on “Electronic Submission” of Large Documents

2:45 pm-3—Break

3 pm-3:30—Review of Relevancy; Discussion

3:30 pm-4—Role of a rural county in the licensing—(distinction between party with standing, interested governmental party, etc.)

4 pm-4:30—Explain the importance of participation in the Licensing Support Network as a prerequisite for being a participant in the licensing process

4:30 pm—Open Discussion and Public Comments on Wednesday Topics

Thursday, September 19, 2001

9 am-10—Demonstration of Production Version 2.0 of the LSN

10 am-10:30—System Upgrade Prior to License Application

10:30 am-10:45—Break

10:45 am-11:15—Public Access via NRC & DOE reading rooms and Nevada libraries

11:15 am-12—Overview of NRC plans for the digital courtroom environment

12-1—Lunch

1-1:30—Impact of Homeland Security Reviews on Document Access via the LSN

1:30 pm-2—Open Discussion and Public Comments on Thursday Topics Adjourn

SUPPLEMENTARY INFORMATION: The LSN is an internet based electronic discovery database being developed to aid the NRC in complying with the schedule for decision on the construction authorization for the high-level waste repository contained in Section 114(d) of the Nuclear Waste Policy Act of 1982, as amended. In 1998, the NRC Rules of Practice in 10 CFR Part 2, Subpart J, were modified to provide for the creation and operation of the LSN, an internet-based technological solution to the submission and management of records and documents relating to the licensing of a geologic repository for the disposal of high-level radioactive waste. (63 FR 71729.) Pursuant to 10 CFR 2.1011(d), the agency has chartered the LSNARP, an advisory committee that provides advice to the NRC on fundamental issues relating to LSN design, operation, maintenance, and compliance monitoring.

FOR FURTHER INFORMATION CONTACT: U.S. Nuclear Regulatory Commission, Office of the Secretary, Mail Stop O-16 C1, Washington, DC 20555-0001; Attn: Andrew Bates (telephone 301-415-1963; e-mail ALB@NRC.GOV) or Atomic Safety and Licensing Board Panel, Mail Stop T-3 F23, Attn: Jack G. Whetstine (telephone 301-415-7391; e-mail JGW@NRC.GOV).

Public Participation: Interested persons may make oral presentations to the LSNARP or file written statements. An oral presentations request should be made to one of the contact persons listed above as far in advance as practicable so that appropriate arrangements can be made.

Dated: July 22, 2002.
Andrew L. Bates,
Advisory Committee Management Officer.

[FR Doc. 02-18970 Filed 7-25-02; 8:45 am]

BILLING CODE 7590-01-P